DEPARTMENT OF HOUSING AND URBAN DEVELOPMENT

[Docket No. FR-5997-N-48]

30-Day Notice of Proposed Information Collection: Grant Drawdown Payment Request/LOCCS/VRS Voice Activated

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: October 6, 2017.

ADDRESSES: Interested persons are invited to submit comments regarding this proposal. Comments should refer to the proposal by name and/or OMB Control Number and should be sent to: HUD Desk Officer, Office of Management and Budget, New Executive Office Building, Washington, DC 20503; fax: 202-395-5806, Email: OIRA_Submission@omb.eop.gov.

FOR FURTHER INFORMATION CONTACT: Colette Pollard, Reports Management Officer, QMAC, Department of Housing and Urban Development, 451 7th Street SW., Washington, DC 20410; email Colette.Pollard@hud.gov, or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on June 19, 2017 at 82 FR 27859.

A. Overview of Information Collection

Title of Information Collection: Grant Drawdown Payment Request/LOCCS/VRS Voice Activated.

OMB Approval Number: 2577-0166.

Type of Request: Revision of a currently approved collection.

Form Number: 50080-CFP; 50080-SC; 50080-PHTA; 50080-OFND; 50080-URP; 50080-FSS; 50080-IHBG; 50080-TIHD.

Description of the need for the information and proposed use: On April 17, 2017, the Grant Drawdown Payment Request/Voce Response System (VRS) was converted to a Business Partner Registration and Secure Systems for both the user and their Approving Official. The Secure Systems supports many of HUD applications, of which Line of Credit Control System (eLOCCS) is one of them. eLOCCS is implementing Single Sign-On solution under Secure Systems, where Grant recipients will be recognized and authenticated based on a Secure System ID and will no longer separately Sign-in to eLOCCS. Grant recipients use LOCCS system to request funds from HUD by signing into Secure Systems, as they normally do, and select Line of Credit Control System (eLOCCS) link. The Grantees (all new or reinstated user who need to access eLOCCS) will need to complete the LOCCS HUD-27054E form, have it notarized, send the original HUD-27054E LOCCS Access Authorization Form (with the original signature and notary seal) via U.S. Mail to the Program Office for review. The LOCCS system will automatically generate an Access Authorization email letting the user know that HUD-27054E has been processed, enabling grantees to access their eLOCCS account. The information collected on the payment voucher will also be used as an internal control measure to ensure the lawful and appropriate disbursement of Federal funds as well as provide a service to program recipients.

Below is a link where the HUD-27054E LOCCS Authorized Form can be accessed: http://portal.hud.gov/hudportal/documents/huddoc?id=27054E.pdf.

Respondents: PHAs, state or local government. Tribes and tribally designated housing entities.

Information collection | Number of respondents | Frequency of responses (drawdowns annually per program) | Responses per annum | Burden hour per response | Annual burden hours
Capital Fund 50080-CFP | 3,100 | 15 | 46,500.00 | 2 .25 | 104,625.00
Operating Fund 50080-OFND | 7,100 | 12 | 85,200.00 | 2 .25 | 191,700.00
Resident Opportunities and Supportive Services (ROSS) SC 50080-SC | 330 | 12 | 3,960.00 | .25 | 990.00
Public Housing Technical Assistance 50080-PHTA | 12 | 12 | 144.00 | .25 | 36.00
Hope VI 50080-URP | 50 | 12 | 600.00 | 1 | 600.00
Family Self-Sufficiency 50080-FSS | 700 | 12 | 8,400.00 | .25 | 2,100.00
Indian Housing Block Grant 50080-IHBG | 361 | 12 | 4,332.00 | .25 | 1,083.00
Traditional Indian Housing Development 50080-TIHD | 32 | 12 | 384.00 | .25 | 96.00
| 11,685 |  |  |  | 301,230.00
* Frequency of Responses is the total number of AMPs (7,100) multiplied by the total annual drawdowns (12 months).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: including through the use of appropriate automated collection techniques or other forms of information technology, e.g., permitting electronic submission of responses.

HUD encourages interested parties to submit comment in response to these questions.

Authority: Section 3507 of the Paperwork Reduction Act of 1995, 44 U.S.C. Chapter 35.

Dated: August 30, 2017.
Colette Pollard,
Department Reports Management Officer, Office of the Chief Information Officer.

[FR Doc. 2017-18853 Filed 9-5-17; 8:45 am]

BILLING CODE 4210-67-P